DEPARTMENT OF HEALTH AND HUMAN SERVICES

National Institutes of Health

Center for Scientific Review Amended; Notice of Meeting

Notice is hereby given of a change in the meeting of the Center for Scientific Review Special Emphasis Panel, March 03, 2014, 02:00 p.m. to March 03, 2014, 05:00 p.m., National Institutes of Health, 6701 Rockledge Drive, Bethesda, MD, 20892 which was published in the Federal Registeron February 25, 2014, 78 FR 10541 pg. 10541-10542.

The meeting will be held at the National Institutes of Health, 6701 Rockledge Drive, Bethesda, MD 20892. The meeting will start on April 1, 2014 at 11:00 a.m. and end on April 1, 2014 at 1:00 p.m. The meeting location remains the same. The meeting is closed to the public.

Dated: March 11, 2014.
Michelle Trout,
Program Analyst, Office of Federal Advisory Committee Policy.

[FR Doc. 2014-05871 Filed 3-17-14; 8:45 am]

BILLING CODE 4140-01-P